DEPARTMENT OF ENERGY

Federal Energy Regulatory Commission

[Docket Nos. CP01-76-004 and CP01-77-004]

Cove Point LNG Limited Partnership; Notice of Supplemental Compliance Filing

February 7, 2003.

Take notice that on February 5, 2003, Dominion Cove Point LNG Limited Partnership (DCP) filed a supplement to the compliance filing made in the captioned proceedings on January 13, 2003.

DCP explains that the prior filing anticipated the reactivation of its LNG-import facilities on May 1, 2003, and that it now believes that the facilities will not be in-service until June 2003.

Accordingly, DCP is amending its January 13, 2003, filing to request that the tariff sheets previously filed be made effective one month later than previously requested. That is, DCP proposes an effective date of June 1, 2003. for the bulk of the sheets, and March 1, 2003, for Original Sheet Nos. 18C.01, 18D and 18F. In addition, DCP now requests that Original Sheet No. 18A.01. also become effective on March 1, 2003. Furthermore, DCP proposes to correct typographical errors on First Revised Sheet Nos. 21 and 122 and to include a clarifying numbering change on Second Revised Sheet Nos. 136 and 137. Accordingly, DCP submits the following new tariff sheets with its filing:

Substitute First Revised Sheet No. 21

Substitute First Revised Sheet No. 122

Substitute Second Revised Sheet No. 136

Substitute Second Revised Sheet No. 137

Cove Point states that copies of its letter of transmittal and enclosures have been served upon Cove Point's customers and interested state commissions.

Any person desiring to protest said filing should file a protest with the Federal Energy Regulatory Commission, 888 First Street, NE., Washington, DC 20426, in accordance with Section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: February 18, 2003.

Magalie R. Salas,
Secretary.

[FR Doc. 03-3649 Filed 2-13-03; 8:45 am]

BILLING CODE 6717-01-P